DEPARTMENT OF THE INTERIOR

National Park Service

[NPS-WASO-NAGPRA-NPS0032265; PPWOCRADN0-PCU00RP14.R50000]

Notice of Inventory Completion: Case Western Reserve University, Cleveland, OH

AGENCY: National Park Service, Interior.

ACTION: Notice.

SUMMARY: Case Western Reserve University (CWRU) has completed an inventory of human remains, in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains should submit a written request to CWRU. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to CWRU at the address in this notice by August 18, 2021.

FOR FURTHER INFORMATION CONTACT: Stacy Fening, Ph.D., Technology Transfer Office LC: 7219, Case Western Reserve University, 10900 Euclid Avenue, Cleveland, OH 44106-7219, telephone (216) 368-0451, email stacy.fening@case.edu.

SUPPLEMENTARY INFORMATION: Notice is here given in accordance with the Native American Graves Protection and Repatriation Act (NAGPRA), 25 U.S.C. 3003, of the completion of an inventory of human remains under the control of Case Western Reserve University, Cleveland, OH. The human remains were removed from a shoreline area on Maui Island, HI.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Case Western Reserve University professional staff in consultation with representatives of the Office of Hawaiian Affairs (OHA).

History and Description of the Remains

Sometime in the early part of the 20th century, human remains representing, at minimum, five individuals were removed from the shoreline area of Maui, HI, by a Mr. Woods, a resident of Ohio. The records accompanying the human remains describe them as likely belonging to three males and two females and surmise that their presence Maui was a result of Polynesian migration patterns. In 1932, the human remains were donated to CWRU for research and study and were assigned catalog numbers HTD 0.234-0.238. Subsequently, the Woods collection was permanently loaned to the Cleveland Museum of Natural History (CMNH), where the human remains listed in this notice now reside. No known individuals were identified. No associated funerary objects are present.

Determinations Made by Case Western Reserve University

Officials of Case Western Reserve University have determined that:

• Pursuant to 25 U.S.C. 3001(9), the human remains described in this notice represent the physical remains of five individuals of Native Hawaiian ancestry.

• Pursuant to 25 U.S.C. 3001(2), there is a relationship of shared group identity that can be reasonably traced between the Native Hawaiian human remains and the Office of Hawaiian Affairs.

Additional Requestors and Disposition

Lineal descendants or representatives of any Indian Tribe or Native Hawaiian organization not identified in this notice that wish to request transfer of control of these human remains should submit a written request with information in support of the request to Stacy Fening, Ph.D., Technology Transfer Office LC: 7219, Case Western Reserve University, 10900 Euclid Avenue, Cleveland, OH 44106-7219, telephone (216) 368-0451, email stacy.fening@case.edu, by August 18, 2021. After that date, if no additional requestors have come forward, transfer of control of the human remains to the Office of Hawaiian Affairs may proceed.

Case Western Reserve University is responsible for notifying the Office of Hawaiian Affairs that this notice has been published.

Dated: July 7, 2021.
Melanie O'Brien,
Manager, National NAGPRA Program.

[FR Doc. 2021-15254 Filed 7-16-21; 8:45 am]

BILLING CODE 4312-52-P